DEPARTMENT OF DEFENSE

Defense Acquisition Regulations System

48 CFR Part 252

RIN 0750-AI47

Defense Federal Acquisition Regulation Supplement: Elimination of Quarterly Reporting of Actual Performance Outside the United States (DFARS Case 2015-D001); Correction

AGENCY: Defense Acquisition Regulations System, Department of Defense (DoD).

ACTION: Correcting amendments to final regulations.

SUMMARY: This document contains corrections to DFARS final rule 2015-D001, Elimination of Quarterly Reporting of Actual Performance Outside the United States, which was published Thursday, December 11, 2014 (79 FR 73499). The rule that is the subject of this correction eliminates the requirement for quarterly reporting of actual contract performance outside the United States contained at DFARS clause 252.225-7006.

DATES: Effective December 19, 2014.

FOR FURTHER INFORMATION CONTACT: Mr. Manuel Quinones, telephone 571-372-6088.

SUPPLEMENTARY INFORMATION: As published, the DFARS final rule 2015-D001 contains errors, which are in need of correction. DFARS section 252.225-7005 was inadvertently removed instead of section 252.225-7006. To correct this error, this technical amendment reinstates 252.225-7005 and removes DFARS section 252.225-7006.

List of Subjects in 48 CFR Part 252

Government procurement.

Accordingly, 48 CFR part 252 is corrected by making the following correcting amendments:

PART 252—SOLICITATION PROVISIONS AND CONTRACT CLAUSES

1. The authority citation for part 252 continues to read as follows:

Authority: 41 U.S.C. 1303 and 48 CFR chapter 1.

2. Add section 252.225-7005 to read as follows:

252.225-7005 Identification of Expenditures in the United States.

As prescribed in 225.1103(1), use the following clause: Identification of Expenditures In The United States (Jun 2005)

(a) Definition. United States, as used in this clause, means the 50 States, the District of Columbia, and outlying areas.

(b) This clause applies only if the Contractor is—

(1) A concern incorporated in the United States (including a subsidiary that is incorporated in the United States, even if the parent corporation is not incorporated in the United States); or

(2) An unincorporated concern having its principal place of business in the United States.

(c) On each invoice, voucher, or other request for payment under this contract, the Contractor shall identify that part of the requested payment that represents estimated expenditures in the United States. The identification—

(1) May be expressed either as dollar amounts or as percentages of the total amount of the request for payment;

(2) Should be based on reasonable estimates; and

(3) Shall state the full amount of the payment requested, subdivided into the following categories:

(i) U.S. products—expenditures for material and equipment manufactured or produced in the United States, including end products, components, or construction material, but excluding transportation;

(ii) U.S. services—expenditures for services performed in the United States, including all charges for overhead, other indirect costs, and profit under construction or service contracts;

(iii) Transportation on U.S. carriers—expenditures for transportation furnished by U.S. flag, ocean, surface, and air carriers; and

(iv) Expenditures not identified under paragraphs (c)(3)(i) through (iii) of this clause.

(d) Nothing in this clause requires the establishment or maintenance of detailed accounting records or gives the U.S. Government any right to audit the Contractor's books or records.

(End of clause)

252.225-7006 [Removed and Reserved]

3. Remove and reserve 252.225-7006.

Manuel Quinones,
Editor, Defense Acquisition Regulations System.

[FR Doc. 2014-29724 Filed 12-18-14; 8:45 am]

BILLING CODE 5001-06-P